DEPARTMENT OF TRANSPORTATION

Federal Aviation Administration

14 CFR Part 71

[Docket No. FAA-2022-0932; Airspace Docket No. 21-AEA-22]

RIN 2120-AA66

Amendment and Establishment of Area Navigation (RNAV) Routes; Eastern United States

AGENCY: Federal Aviation Administration (FAA), DOT.

ACTION: Final rule.

SUMMARY: This action amends four area navigation (RNAV) routes (T-224, T-315, T-325, and Q-68), and establishes one RNAV route (T-360). These changes support the FAA VHF Omnidirectional Range (VOR) Minimum Operational Network (MON) program, and expands the availability of RNAV routing in the National Airspace System (NAS).

DATES: Effective date 0901 UTC, February 23, 2023. The Director of the Federal Register approves this incorporation by reference action under 1 CFR part 51, subject to the annual revision of FAA Order JO 7400.11 and publication of conforming amendments.

ADDRESSES: FAA Order JO 7400.11G, Airspace Designations and Reporting Points, and subsequent amendments can be viewed online at www.faa.gov/air_traffic/publications/. For further information, you can contact the Rules and Regulations Group, Federal Aviation Administration, 800 Independence Avenue SW, Washington, DC 20591; telephone: (202) 267-8783.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as necessary to preserve the safe and efficient flow of air traffic within the NAS.

History

The FAA published a notice of proposed rulemaking for Docket No. FAA-2022-0932, in the Federal Register (87 FR 50011; August 15, 2022). Interested parties were invited to participate in this rulemaking effort by submitting written comments on the proposal. No comments were received.

United States RNAV T-routes are published in paragraph 6011, and RNAV Q-routes are published in paragraph 2006, respectively, of FAA Order JO 7400.11G, dated August 19, 2022, and effective September 15, 2022, which is incorporated by reference in 14 CFR 71.1. The RNAV routes listed in this document will be published subsequently in FAA Order JO 7400.11.

Differences From the NPRM

The NPRM proposed, in part, to establish RNAV route T-303, and amend T-314. The FAA determined that these routes require additional coordination so they are removed from this docket and will be placed in a subsequent docket for publication at a later date.

The description of T-224 in the NPRM included the AXEJA, AL, Fix. The AXEJA Fix is a Computer Navigation Fix (CNF). As described in the Aeronautical Information Manual (AIM), a CNF is a point described by a latitude/longitude coordinate that is required to support area navigation (RNAV) system operations. The GPS receiver uses CNFs in conjunction with waypoints to navigate from point to point. However, CNFs are not used for air traffic control purposes or communications, and are not used by pilots for filing flight plans or navigating along a route. Therefore, CNFs are not to be included in route descriptions published under 14 CFR part 71. This rule removes the AXEJA Fix from the T-224 description.

Availability and Summary of Documents for Incorporation by Reference

This document amends FAA Order JO 7400.11G, Airspace Designations and Reporting Points, dated August 19, 2022, and effective September 15, 2022. FAA Order JO 7400.11G is publicly available as listed in the ADDRESSES section of this document. FAA Order JO 7400.11G lists Class A, B, C, D, and E airspace areas, air traffic service routes, and reporting points.

The Rule

This action amends 14 CFR part 71 by amending three low altitude RNAV T-routes, designated T-224, T-315, and T-325; establishing one T-route designated T-360; and amending one high altitude RNAV route designated Q-68. This action supports the VOR MON Program, and the transition of the NAS from ground-based navigation aids to satellite-based navigation. The route changes are as follows.

T-224: This rule extends T-224 from the COLIN, VA, Fix to the Boston, MA (BOS), VHF Omnidirectional Range/Distance Measuring Equipment (VOR/DME). The points from the Palacios VHF Omnidirectional Range and Tactical Air Navigational System (VORTAC) to the COLIN Fix remain unchanged. After the COLIN Fix, the following points are added to the route: SHLBK, MD, waypoint (WP); PRNCZ, MD, WP; Smyrna, DE (ENO), VORTAC; JIIMS, NJ, WP; Coyle, NJ (CYN), VORTAC; DIXIE, NJ, Fix; Kennedy, NY (JFK), VOR/DME; KEEPM, NY, Fix; Calverton, NY (CCC), VOR/DME; YANCT, CT, WP; and Boston, MA (BOS), VOR/DME. In this description, the JIIMS WP is being used in place of the Cedar Lake, NJ (VCN), VOR/DME, and the YANCT, CT, WP is being used in place of the Norwich, CT (ORW), VOR/DME. T-224 overlies portions of VOR Federal airway V-16 from the COLIN Fix to the Boston VOR/DME. The AXEJA, AL Computer Navigation Fix is removed from the route description for the reason discussed above.

T-315: T-315 extends from the Hartford, CT (HFD), VOR/DME to the Burlington, VT (BVT), VOR/DME. This action extends T-315 south and west from Hartford, CT to the vicinity of Charleston, WV. The JARLO, WV, WP is used in place of the Charleston, WV (HVQ), VOR/DME. T-315 overlies airway V-260 from JARLO to Flat Rock, VA; V-16 from Flat Rock to the DIXIE, NJ, Fix; and V-229 from the DIXIE Fix to Hartford, CT. The SHANE, WV, WP is used in place of the Rainelle, WV (RNL), VOR. The DBRAH, VA, WP replaces the Roanoke, VA (ROA), VOR/DME. The EEGOR, CT, WP replaces the Bridgeport, CT (BDR), VOR/DME. The following WPs are removed from the description because they don't mark a turn point: DARTH, CT; WITNY, MA; SPENO, MA; JAMMA, VT; and MUDDI, VT. However, the points will remain part of the route structure and will continue to be depicted on the IFR En Route chart. As amended, T-315 extends from the JARLO, WV, WP to the Burlington, VT (BTV), VOR/DME.

T-325: T-325 extends from the Bowling Green, KY (BWG), DME to the Oshkosh, WI (OSH), VORTAC. Due to the scheduled decommissioning of the Bowling Green, KY (BWG), DME this action amends the route by replacing the Bowling Green DME with the RAMRD, KY, WP. In addition, the following points are removed from the route description because they don't mark a turn point: LOONE, KY, WP; BUNKA, IN, Fix; and CAPPY, IL, WP. However, the points will remain part of the route structure and will continue to be depicted on the IFR En Route chart. As amended, T-325 extends from the RAMRD, KY, WP to the Oshkosh, WI (OSH), VORTAC.

T-360: T-360 is a new route that extends from the SHANE, WV, WP to the WAVES, VA, WP. T-360 overlies airway V-290 from the Rainelle, WV (RNL), VOR to the ARVON, VA, Fix (located 22 nautical miles southwest of the Gordonsville, VA (GVE), VORTAC). The SHANE WP replaces the Rainelle VOR.

Q-68: Q-68 is a high-altitude RNAV route that extends from the LITTR, AR, WP to the OTTTO, VA, WP. The FAA is amending Q-68 by removing the Bowling Green, KY (BWG), DME from the route and replacing it with the RAMRD, KY, WP. The following points are removed from the description because they don't mark a turn point: SOPIE, TN, Fix; YOCKY, KY, Fix; SPAYD, WV, Fix; and HHOLZ, WV, Fix. However, the points will remain part of the route structure and will continue to be depicted on the IFR En Route chart.

Full route descriptions of the above routes are listed in the amendments to part 71 set forth below.

FAA Order JO 7400.11, Airspace Designations and Reporting Points, is published yearly and effective on September 15.

Regulatory Notices and Analyses

The FAA has determined that this regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of amending three low altitude United States Area Navigation (RNAV) T routes, amending one RNAV Q route, and establishing one T route, as described above, in support of efforts transitioning the NAS from ground-based to satellite-based navigation, qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points); and paragraph 5-6.5b, which categorically excludes from further environmental impact review “Actions regarding establishment of jet routes and Federal airways (see 14 CFR 71.15, Designation of jet routes and VOR Federal airways) . . .”. As such, this action is not expected to result in any potentially significant environmental impacts. In accordance with FAA Order 1050.1F, paragraph 5-2 regarding Extraordinary Circumstances, the FAA has reviewed this action for factors and circumstances in which a normally categorically excluded action may have a significant environmental impact requiring further analysis. Accordingly, the FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11G, Airspace Designations and Reporting Points, dated August 19, 202, and effective September 15, 2022, is amended as follows:

Paragraph 6011 United States Area Navigation Routes.

* * * * *

T-224 Palacios, TX (PSX) to Boston, MA (BOS) [Amended]
Palacios, TX (PSX) | VORTAC | (Lat. 28°45′51.93″ N, long. 096°18′22.25″ W)
MOLLR, TX | WP | (Lat. 29°39′20.23″ N, long. 095°16′35.83″ W)
SHWNN, TX | WP | (Lat. 29°56′45.94″ N, long. 094°00′57.73″ W)
WASPY, LA | FIX | (Lat. 30°01′33.88″ N, long. 093°38′50.45″ W)
KNZLY, LA | WP | (Lat. 30°08′29.48″ N, long. 093°06′19.37″ W)
DAFLY, LA | WP | (Lat. 30°11′37.70″ N, long. 091°59′33.94″ W)
KJAAY, LA | WP | (Lat. 30°05′15.06″ N, long. 090°35′19.73″ W)
SLIDD, LA | FIX | (Lat. 30°09′46.08″ N, long. 089°44′02.18″ W)
WTERS, MS | WP | (Lat. 30°24′24.36″ N, long. 089°04′37.04″ W)
LYNRD, AL | WP | (Lat. 30°43′33.26″ N, long. 088°21′34.07″ W)
WIILL, AL | WP | (Lat. 31°27′33.96″ N, long. 087°21′08.62″ W)
MGMRY, AL | WP | (Lat. 32°13′20.78″ N, long. 086°19′11.24″ W)
GONDR, AL | WP | (Lat. 32°22′01.98″ N, long. 085°45′57.08″ W)
RSVLT, GA | WP | (Lat. 32°36′55.43″ N, long. 085°01′03.81″ W)
SINCA, GA | FIX | (Lat. 33°04′52.28″ N, long. 083°36′17.52″ W)
UGAAA, GA | WP | (Lat. 33°56′51.32″ N, long. 083°19′28.42″ W)
ECITY, SC | WP | (Lat. 34°25′09.62″ N, long. 082°47′04.58″ W)
STYLZ, NC | WP | (Lat. 35°24′22.83″ N, long. 082°16′07.01″ W)
BONZE, NC | WP | (Lat. 35°52′09.16″ N, long. 081°14′24.10″ W)
MCDON, VA | WP | (Lat. 36°40′29.56″ N, long. 079°00′52.03″ W)
NUTTS, VA | FIX | (Lat. 37°04′34.16″ N, long. 078°12′13.69″ W)
WAVES, VA | WP | (Lat. 37°35′13.54″ N, long. 077°26′52.03″ W)
TAPPA, VA | FIX | (Lat. 37°58′12.66″ N, long. 076°50′40.62″ W)
COLIN, VA | FIX | (Lat. 38°05′59.23″ N, long. 076°39′50.85″ W)
SHLBK, MD | WP | (Lat. 38°20′16.21″ N, long. 076°26′10.51″ W)
PRNCZ, MD | WP | (Lat. 38°37′38.10″ N, long. 076°05′08.20″ W)
Smyrna, DE (ENO) | VORTAC | (Lat. 39°13′53.93″ N, long. 075°30′57.49″ W)
JIIMS, NJ | WP | (Lat. 39°32′15.62″ N, long. 074°58′01.72″ W)
Coyle, NJ (CYN) | VORTAC | (Lat. 39°49′02.42″ N, long. 074°25′53.85″ W)
DIXIE, NJ | FIX | (Lat. 40°05′57.72″ N, long. 074°09′52.17″ W)
Kennedy, NY (JFK) | VOR/DME | (Lat. 40°37′58.40″ N, long. 073°46′17.00″ W)
KEEPM, NY | FIX | (Lat. 40°50′14.77″ N, long. 073°32′42.58″ W)
Calverton, NY (CCC) | VOR/DME | (Lat. 40°55′46.63″ N, long. 072°47′55.89″ W)
YANTC, CT | WP | (Lat. 41°33′22.81″ N, long. 071°59′56.95″ W)
Boston, MA (BOS) | VOR/DME | (Lat. 42°21′26.82″ N, long. 070°59′22.37″ W)
* * * * * * *
T-315 JARLO, WV to Burlington, VT (BTV) [Amended]
JARLO, WV | WP | (Lat. 38°20′58.85″ N, long. 081°46′11.68″ W)
SHANE, WV | WP | (Lat. 37°58′31.15″ N, long. 080°48′24.34″ W)
DBRAH, VA | WP | (Lat. 37°20′34.14″ N, long. 080°04′10.75″ W)
SPNKS, VA | WP | (Lat. 37°17′21.31″ N, long. 079°33′17.14″ W)
KONRD, VA | WP | (Lat. 37°20′39.83″ N, long. 079°01′33.27″ W)
CRUMB, VA | FIX | (Lat. 37°28′09.44″ N, long. 078°08′27.69″ W)
Flat Rock, VA (FAK) | VORTAC | (Lat. 37°31′42.63″ N, long. 077°49′41.59″ W)
WAVES, VA | WP | (Lat. 37°35′13.54″ N, long. 077°26′52.03″ W)
TAPPA, VA | FIX | (Lat. 37°58′12.66″ N, long. 076°50′40.62″ W)
COLIN, VA | FIX | (Lat. 38°05′59.23″ N, long. 076°39′50.85″ W)
SHLBK, MD | WP | (Lat. 38°20′16.21″ N, long. 076°26′10.51″ W)
PRNCZ, MD | WP | (Lat. 38°37′38.10″ N, long. 076°05′08.20″ W)
CHOPS, MD | FIX | (Lat. 38°45′41.81″ N, long. 075°57′36.18″ W)
COSHA, DE | WP | (Lat. 38°57′57.57″ N, long. 075°30′51.59″ W)
Atlantic City, NJ (ACY) | VORTAC | (Lat. 39°27′21.15″ N, long. 074°34′34.73″ W)
PANZE, NJ | FIX | (Lat. 39°40′33.58″ N, long. 074°10′05.45″ W)
DIXIE, NJ | FIX | (Lat. 40°05′57.72″ N, long. 074°09′52.17″ W)
Kennedy, NY (JFK) | VOR/DME | (Lat. 40°37′58.40″ N, long. 073°46′17.00″ W)
KEEPM, NY | FIX | (Lat. 40°50′14.77″ N, long. 073°32′42.58″ W)
TRANZ, NY | FIX | (Lat. 40°51′31.95″ N, long. 073°22′30.80″ W)
PUGGS, NY | FIX | (Lat. 40°56′27.65″ N, long. 073°13′47.73″ W)
EEGOR, CT | WP | (Lat. 41°09′38.94″ N, long. 073°07′27.66″ W)
Hartford, CT (HFD) | VOR/DME | (Lat. 41°38′27.98″ N, long. 072°32′50.70″ W)
DVANY, CT | WP | (Lat. 41°51′44.56″ N, long. 072°18′11.25″ W)
Gardner, MA (GDM) | VOR/DME | (Lat. 42°32′45.31″ N, long. 072°03′29.48″ W)
KEYNN, NH | WP | (Lat. 42°47′39.99″ N, long. 072°17′30.35″ W)
EBERT, VT | FIX | (Lat. 43°32′58.08″ N, long. 072°45′42.45″ W)
Burlington, VT (BTV) | VOR/DME | (Lat. 44°23′49.58″ N, long. 073°10′57.48″ W)
* * * * * * *
T-325 RAMRD, KY to Oshkosh, WI (OSH) [Amended]
RAMRD, KY | WP | (Lat. 36°55′44.04″ N, long. 086°26′36.58″ W)
RENRO, KY | WP | (Lat. 37°28′50.53″ N, long. 086°39′19.25″ W)
APALO, IN | FIX | (Lat. 38°00′20.59″ N, long. 086°51′35.27″ W)
JIBKA, IN | WP | (Lat. 39°30′08.93″ N, long. 087°16′26.74″ W)
SMARS, IL | WP | (Lat. 41°07′38.18″ N, long. 088°51′38.22″ W)
TRENM, IL | WP | (Lat. 41°17′24.93″ N, long. 089°00′27.53″ W)
START, IL | WP | (Lat. 41°45′24.83″ N, long. 089°00′21.81″ W)
GRIFT, IL | WP | (Lat. 42°17′28.14″ N, long. 088°53′41.42″ W)
DEBOW, WI | WP | (Lat. 42°44′08.30″ N, long. 088°50′48.92″ W)
LUNGS, WI | WP | (Lat. 43°02′43.66″ N, long. 088°56′54.86″ W)
HOMNY, WI | WP | (Lat. 43°31′02.22″ N, long. 088°39′40.15″ W)
Oshkosh, WI (OSH) | VORTAC | (Lat. 43°59′25.56″ N, long. 088°33′21.36″ W)
* * * * * * *
T-360 SHANE, WV to WAVES, VA [New]
SHANE, WV | WP | (Lat. 37°58′31.15″ N, long. 080°48′24.34″ W)
OBEPE, VA | FIX | (Lat. 37°54′23.03″ N, long. 079°13′21.04″ W)
ROMAN, VA | FIX | (Lat. 37°48′12.67″ N, long. 078°46′03.24″ W)
ARVON, VA | FIX | (Lat. 37°41′13.95″ N, long. 078°21′58.75″ W)
WAVES, VA | WP | (Lat. 37°35′13.54″ N, long. 077°26′52.03″ W)

* * * * *

Paragraph 2006

* * * * *

Q-68 LITTR, AR to OTTTO, VA [Amended]
LITTR, AR | WP | (Lat. 34°40′39.90″ N, long. 092°10′49.26″ W)
RAMRD, KY | WP | (Lat. 36°55′44.04″ N, long. 086°26′36.58″ W)
Charleston, WV (HVQ) | VOR/DME | (Lat. 38°20′58.83″ N, long. 081°46′11.69″ W)
TOMCA, WV | WP | (Lat. 38°34′42.49″ N, long. 080°36′41.09″ W)
RONZZ, WV | WP | (Lat. 38°33′16.08″ N, long. 080°07′56.63″ W)
CAPOE, VA | WP | (Lat. 38°51′13.13″ N, long. 078°22′27.45″ W)
OTTTO, VA | WP | (Lat. 38°51′15.81″ N, long. 078°12′20.01″ W)

* * * * *

Issued in Washington, DC, on December 1, 2022.
Scott M. Rosenbloom,
Manager, Airspace Rules and Regulations.

[FR Doc. 2022-26489 Filed 12-6-22; 8:45 am]

BILLING CODE 4910-13-P